DEPARTMENT OF THE INTERIOR

Bureau of Land Management

[NV-930-1430-ET]

Termination of Segregation; NV

AGENCY: Bureau of Land Management (BLM), Interior.

ACTION: Notice of termination of segregation.

SUMMARY: This action terminates a portion of the segregation known as the Lincoln Douglas Land Exchange. The land will be opened to the public land laws generally, including the mining and mineral leasing laws.

EFFECTIVE DATE: February 12, 2001.

ADDRESSES: Written comments should be addressed to: Bureau of Land Management, Gene L. Drais, Assistant Field Manager, Nonrenewable Resources, HC 33, Box 33500, Ely, NV 89301-9408.

FOR FURTHER INFORMATION CONTACT: Doris Metcalf, Land Law Examiner, at the above address or telephone (775) 289-1852.

SUPPLEMENTARY INFORMATION: Pursuant to the authority delegated by appendix 1 of Bureau of Land Management Manual 1203 dated November 25, 1998, that portion identified below as being part of the Lincoln Douglas Exchange is hereby terminated in its entirety:

Mount Diablo Meridian, Nevada

T. 6 S., R. 57 E.,

Section 25, NW¼NW¼,

T.5 N., R. 66E.,

Section 15, N½NE¼,

T.5 N., R. 66E.,

Section 26, SW½SW¼,

Section 28, NW¼SE¼.

The area described contains 240 acres in Lincoln County.

The classification made pursuant to the Act of October 21, 1976, amended, and segregated the public land from all other forms of appropriation under the public land laws, including location under the United States mining laws and the mineral leasing laws. The segregation request has been withdrawn, therefore, is no longer needed.

At 10 a.m. on February 12, 2001, the land will be open to the operation of the public land laws and the mineral leasing laws, subject to valid existing rights, existing classifications and withdrawals, and requirements of applicable law. All valid applications received prior to or at 9 a.m. on February 12, 2001, will be considered as simultaneously filed. All other applications received will be considered in order of filing.

At 9 a.m. on February 12, 2001, the lands described above will be opened to location and entry under the United States mining laws, subject to valid existing rights, the provisions of existing withdrawals, other segregations of record, and the requirements of applicable law. Appropriation of lands under the general mining laws prior to the date and time of restoration is unauthorized. Any such attempted appropriation, including attempted adverse possession under 30 U.S.C. 38, shall vest no rights against the United States. Acts required to establish a location and to initiate a right of possession are governed by State law where not in conflict with Federal law. The Bureau of Land Management will not intervene in disputes between rival locators over possessory rights since Congress has provided for such determinations in local courts.

Dated: December 27, 2000.
Daniel R. Netcher,
Assistant Field Manager, Nonrenewable Resources.

[FR Doc. 01-871 Filed 1-10-01; 8:45 am]

BILLING CODE 4310-HC-M